DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, call the HRSA Reports Clearance Office on (301)-443-1129.

The following request has been submitted to the Office of Management and Budget for review under the Paperwork Reduction Act of 1995:

Proposed Project: The Sentinel Centers Network (SCN) Core Data Set (OMB No. 0915-0268)—Extension

HRSA's Bureau of Primary Health Care (BPHC) established the Sentinel Centers Network (SCN) to assist in addressing critical quality, programmatic, and policy issues. Health centers identified as having adequate infrastructure and commitment through the competitive contract process have generated data for quality and program analyses and for projects on topics that have immediate programmatic impact. Health centers submit core data periodically extracted from existing information systems. These core data comprise patient, encounter, and practitioner level information including patient demographics, insurance status, clinical diagnoses and procedures, outcomes, and practitioner characteristics. Since all data obtained from the participant health centers are extracted/compiled from existing information systems and not through primary data collection, burden is minimized. In addition, each participant site receives technical assistance as needed to reduce burden and facilitate data submission.

The annual burden estimate for this activity is as follows:

Type of respondent | Number of respondents | Responses per respondents | Total responses | Hours per response | Total burden hours
Sites | 43 | 2 | 86 | 8 | 688

Written comments and recommendations concerning the proposed information collection should be sent within 30 days of this notice to: John Kraemer, Human Resources and Housing Branch, Office of Management and Budget, New Executive Office Building, Room 10235, Washington, D.C. 20503.

Dated: December 13, 2005.
Tina M. Cheatham,
Director, Division of Policy Review and Coordination.

[FR Doc. E5-7488 Filed 12-16-05; 8:45 am]

BILLING CODE 4165-15-P